ELECTION ASSISTANCE COMMISSION

Sunshine Act Notice

AGENCY: U.S. Election Assistance Commission.

ACTION: Notice of public meeting agenda.

DATES: Wednesday, August 16, 2017, (2:00-3:00 p.m.—EDT).

ADDRESSES: U.S. Election Assistance Commission,1335 East West Highway (Suite 104), Silver Spring, MD 20910.

FOR FURTHER INFORMATION CONTACT: Bryan Whitener, Telephone: (301) 563-3961.

SUPPLEMENTARY INFORMATION:

Agenda: Commissioners will hold a public meeting to receive updates on the following topics: (1) Cybersecurity in Elections; (2) Help America Vote Act Payments and Grants; and (3) the Election Administration and Voting Survey. Commissioners will receive a project update from the Inspector General. Commissioners will consider and vote on a commission organization chart. Commissioners will announce upcoming 2017 EAC Elections Awards.

Status: This Meeting Will Be Open to the Public.

Bryan Whitener,
Director of National Clearinghouse on Elections, U.S. Election Assistance Commission.

[FR Doc. 2017-16778 Filed 8-4-17; 4:15 pm]

BILLING CODE 4810-71-P